DEPARTMENT OF THE INTERIOR

Fish and Wildlife Service

[FWS-R8-ES-2021-N201; FXES11130800000-223-FF08E00000]

Endangered and Threatened Wildlife and Plants; Initiation of 5-Year Status Reviews of 40 Species in California, Nevada, and Oregon

AGENCY: Fish and Wildlife Service, Interior.

ACTION: Notice of initiation of reviews; request for information.

SUMMARY: We, the U.S. Fish and Wildlife Service, are initiating 5-year status reviews of 40 species in California, Nevada, and Oregon under the Endangered Species Act. A 5-year review is based on the best scientific and commercial data available at the time of the review; therefore, we are requesting submission of any new information on these species that has become available since the last review.

DATES: To ensure consideration in our reviews, we are requesting submission of new information no later than April 4, 2022. However, we will continue to accept new information about any species at any time.

ADDRESSES: For how and where to send information and comments, see Request for New Information.

FOR FURTHER INFORMATION CONTACT: Bjorn Erickson at 916-414-6741. For whom to contact for species-specific information, see Request for New Information. Individuals who are hearing impaired or speech impaired may call the Federal Relay Service at 800-877-8337 for TTY assistance.

SUPPLEMENTARY INFORMATION:

Why do we conduct 5-year reviews?

Under the Endangered Species Act of 1973, as amended (Act; 16 U.S.C. 1531 et seq.), we maintain lists of endangered and threatened wildlife and plant species (referred to as the List) in the Code of Federal Regulations (CFR) at 50 CFR 17.11 (for wildlife) and 17.12 (for plants). Section 4(c)(2)(A) of the Act requires us to review each listed species' status at least once every 5 years. For additional information about 5-year reviews, refer to our factsheet at http://www.fws.gov/endangered/what-we-do/recovery-overview.html.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented to benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for the species.

Which species are under review?

This notice announces our active review of the species listed in the table below.

Common name | Scientific name | Status | States where species is known to occur | Final listing rule (Federal Register citation and publication date) | Lead fish and wildlife office
Plants
Buckwheat, steamboat | Eriogonum ovalifolium var. williamsiae | E | NV | 51 FR 24669; 7/7/1986 | Reno.
Ivesia, Webber's | Ivesia webberi | T | CA and NV | 79 FR 31878; 6/3/2014 | Reno.
Allocarya, Calistoga | Plagiobothrys strictus | E | CA | 62 FR 55791; 10/22/1997 | Sacramento.
Alopecurus, Sonoma | Alopecurus aequalis var. sonomensis | E | CA | 62 FR 55791; 10/22/1997 | Sacramento.
Bird's beak, palmate-bracted | Cordylanthus palmatus | E | CA | 51 FR 23765; 7/1/1986 | Sacramento.
Bluegrass, Napa | Poa napensis | E | CA | 62 FR 55791; 10/22/1997 | Sacramento.
Clover, showy Indian | Trifolium amoenum | E | CA | 62 FR 55791; 10/22/1997 | Sacramento.
Goldfields, Contra Costa | Lasthenia conjugens | E | CA | 62 FR 33029; 6/18/1997 | Sacramento.
Grass, Colusa | Neostapfia colusana | T | CA | 62 FR 14338; 3/26/1997 | Sacramento.
Grass, Solano | Tuctoria mucronata | E | CA | 43 FR 44810; 9/28/1978 | Sacramento.
Lupine, clover | Lupinus tidestromii | E | CA | 57 FR 27848; 6/22/1992 | Sacramento.
Meadowfoam, Butte County | Limnanthes floccosa ssp. californica | E | CA | 57 FR 24192; 6/8/1992 | Sacramento.
Navarretia, few-flowered | Navarretia leucocephala ssp. pauciflora (=N. pauciflora) | E | CA | 62 FR 33029; 6/18/1997 | Sacramento.
Navarretia, many-flowered | Navarretia leucocephala ssp. plieantha | E | CA | 62 FR 33029; 6/18/1997 | Sacramento.
Orcutt grass, hairy | Orcuttia pilosa | E | CA | 62 FR 14338; 3/26/1997 | Sacramento.
Orcutt grass, Sacramento | Orcuttia viscida | E | CA | 62 FR 14338; 3/26/1997 | Sacramento.
Orcutt grass, San Joaquin | Orcuttia inaequalis | T | CA | 62 FR 14338; 3/26/1997 | Sacramento.
Orcutt grass, slender | Orcuttia tenuis | T | CA and OR | 62 FR 14338; 3/26/1997 | Sacramento.
Owl's-clover, fleshy | Castilleja campestris ssp. succulenta | T | CA | 62 FR 14338; 3/26/1997 | Sacramento.
Spineflower, Sonoma | Chorizanthe valida | E | CA | 57 FR 27848; 6/22/1992 | Sacramento.
Spurge, Hoover's | Chamaesyce hooveri | T | CA | 62 FR 14338; 3/26/1997 | Sacramento.
Stonecrop, Lake County | Parvisedum leiocarpum | E | CA | 62 FR 33029; 6/18/1997 | Sacramento.
Thistle, Loch Lomond coyote | Eryngium constancei | E | CA | 51 FR 45904; 12/23/1986 | Sacramento.
Tuctoria, Greene's | Tuctoria greenei | E | CA | 62 FR 14338; 3/26/1997 | Sacramento.
Clarkia, Pismo | Clarkia speciosa ssp. immaculata | E | CA | 59 FR 64613; 12/15/1994 | Ventura.
Cypress, Santa Cruz | Cupressus abramsiana | T | CA | 52 FR 675; 1/8/1987 | Ventura.
Dudleya, Conejo | Dudleya abramsii ssp. parva | T | CA | 62 FR 4172; 1/29/1997 | Ventura.
Dudleya, marcescent | Dudleya cymosa ssp. marcescens | T | CA | 62 FR 4172; 1/29/1997 | Ventura.
Dudleya, Verity's | Dudleya verityi | T | CA | 62 FR 4172; 1/29/1997 | Ventura.
Malacothrix, island | Malacothrix squalida | E | CA | 62 FR 40954; 7/31/1997 | Ventura.
Malacothrix, Santa Cruz Island | Malacothrix indecora | E | CA | 62 FR 40954; 7/31/1997 | Ventura.
Paintbrush, soft-leaved | Castilleja mollis | E | CA | 62 FR 40954; 7/31/1997 | Ventura.
Seablite, California | Suaeda californica | E | CA | 59 FR 64613; 12/15/1994 | Ventura.
Spineflower, Robust | Chorizanthe robusta var. robusta | E | CA | 59 FR 5499; 2/4/1994 | Ventura.
Thistle, Chorro Creek bog | Cirsium fontinale var. obispoense | E | CA | 59 FR 64613; 12/15/1994 | Ventura.
Watercress, Gambel's | Rorippa gambellii | E | CA | 58 FR 41378; 8/3/1993 | Ventura.
Animals
Cui-ui | Chasmistes cujus | E | CA and NV | 32 FR 4001; 3/11/1967 | Reno.
Skipper, Carson wandering | Pseudocopaeodes eunus obscurus | E | CA and NV | 66 FR 59537; 11/29/2001 | Reno.
Trout, Lahontan cutthroat | Oncorhynchus clarkii henshawi | T | CA, NV, OR, and UT | 35 FR 16047; 10/13/1970 | Reno.
Toad, arroyo (=arroyo southwestern) | Anaxyrus californicus | E | CA | 59 FR 64859; 12/16/1994 | Ventura.

Request for New Information

To ensure that a 5-year review is complete and based on the best available scientific and commercial information, we request new information from all sources. See what information do we consider in our review? for specific criteria. If you submit information, please support it with documentation such as maps, bibliographic references, methods used to gather and analyze the data, and/or copies of any pertinent publications, reports, or letters by knowledgeable sources.

To get more information on a species, submit information on a species, or review information we receive, please use the contact information for the lead Fish and Wildlife Office for the species specified in the table above.

• Reno Fish and Wildlife Office: Justin Barrett, 775-861-6338 (phone); RFWOmail@fws.gov (email); or 1340 Financial Boulevard, Suite 234, Reno, NV 89502 (U.S. mail).

• Sacramento Fish and Wildlife Office: Eric Tattersall, 916-414-6723 (phone); fw8sfwocomments@fws.gov (email); or 2800 Cottage Way, Suite W2605, Sacramento, CA 95825 (U.S. mail).

• Ventura Fish and Wildlife Office: Cat Darst, 805-644-1766 (phone); cat_darst@fws.gov (email); or 2493 Portola Road, Suite B, Ventura CA 93003 (U.S. mail).

Public Availability of Comments

Before including your address, phone number, email address, or other personal identifying information in your comment, you should be aware that your entire comment—including your personal identifying information—may be made publicly available at any time. While you can ask us in your comment to withhold your personal identifying information from public review, we cannot guarantee that we will be able to do so.

Authority

This document is published under the authority of the Endangered Species Act of 1973, as amended (16 U.S.C. 1531 et seq.).

Jill Russi,
Acting Regional Director, California Great Basin Region, U.S. Fish and Wildlife Service.

[FR Doc. 2022-02154 Filed 2-1-22; 8:45 am]

BILLING CODE 4333-15-P